Proclamation 10819 of September 27, 2024

National Hunting and Fishing Day, 2024

By the President of the United States of America

A Proclamation

Generations of Americans have enjoyed hunting and fishing—cherished traditions that bring us closer to our Nation's natural wonders and embody America's spirit of resourcefulness and adventure. During National Hunting and Fishing Day, we celebrate our Nation's hunters and anglers, honor their contributions, and continue the conservation work that so many of them have led.

Americans who hunt and fish have immense appreciation for our environment. They know that when we take care of the natural world, we ensure that all generations to come will also have the opportunity to hunt, fish, and enjoy the great outdoors. Passing down this tradition is especially important to rural communities, where hunting and fishing are time-honored pastimes, and to Tribal Nations, where hunting and fishing remain central to their cultures and livelihoods. My Administration set the most ambitious conservation goal ever—committing to conserve at least 30 percent of all our Nation's lands and waters by 2030. That goal is at the heart of my “America the Beautiful” initiative to support locally led, voluntary conservation and restoration efforts across the country. And within our national wildlife refuge system, I approved a 2-million-acre expansion of land available for hunting and fishing. The Department of Agriculture and the Department of the Interior are working with the Hunting and Wildlife Conservation Council to improve hunters' and anglers' access to public lands and waters. I also launched the Federal Interagency Council on Outdoor Recreation to create more safe, affordable, and equitable opportunities for outdoor recreation, including hunting and fishing. My Inflation Reduction Act made the largest investment ever in addressing the climate crisis, harnessing the power of nature as a climate solution and working to ensure that our fish and wildlife are healthy and abundant for years to come.

During National Hunting and Fishing Day, we celebrate hunting and fishing and the place they hold in our hearts, cultures, and national story. We recommit to protecting these activities, which are important to upholding our sacred trust, treaty, and subsistence responsibilities to Tribal Nations. And we honor all the incredible contributions of the hunters and fishers, land owners, State and territorial officials, Tribal Nations, Indigenous communities, and local leaders working to conserve our lands and waters.

NOW, THEREFORE, I, JOSEPH R. BIDEN JR., President of the United States of America, by virtue of the authority vested in me by the Constitution and the laws of the United States, do hereby proclaim September 28, 2024, as National Hunting and Fishing Day. I call upon all Americans to observe this day with appropriate programs and activities.

IN WITNESS WHEREOF, I have hereunto set my hand this twenty-seventh day of September, in the year of our Lord two thousand twenty-four, and of the Independence of the United States of America the two hundred and forty-ninth.

[FR Doc. 2024-22945

Filed 10-1-24; 11:15 am]

Billing code 3395-F4-P